SECURITIES AND EXCHANGE COMMISSION

Sunshine Act Meeting

Federal Register Citation of Previous Announcement: 72 FR 32150, June 11, 2007.

Status: Open meeting.

Place: 100 F Street, NW., Washington, DC.

Date and Time of Previously Announced Meeting: Wednesday, June 13, 2007 at 10 a.m.

Change in the Meeting: Deletion of an Item

The following item was not considered during the Open Meeting on Wednesday, June 13, 2007:

1. The Commission will consider whether to adopt amendments to Rule 105 of Regulation M that would further safeguard the integrity of the capital raising process and protect issuers from manipulative activity that can reduce issuers' offering proceeds and dilute security holder value.

The Commission determined that no earlier notice thereof was possible.

At times, changes in Commission priorities require alterations in the scheduling of meeting items. For further information and to ascertain what, if any, matters have been added, deleted or postponed, please contact the Office of the Secretary at (202) 551-5400.

Dated: June 13, 2007.
Nancy M. Morris,
Secretary.

[FR Doc. E7-11713 Filed 6-15-07; 8:45 am]

BILLING CODE 8010-01-P